FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012228-002.

Title: COSCON/“K” Line/WHL/WHS Space Charter and Sailing Agreement.

Parties: COSCO Container Lines Co. Ltd.; Kawasaki Kisen Kaisha, Ltd.; Wan Hai Lines Ltd.; and Wan Hai Lines (Singapore) PTE Ltd.

Filing Party: Eric C. Jeffrey, Esq.; Nixon Peabody LLP; 799 9th Street NW., Suite 500; Washington, DC 20001-4501.

Synopsis: The amendment revises language in the agreement concerning operational coordination with parties using slots provided under the agreement.

Agreement No.: 201223-001.

Title: Lease and Operating Agreement between PRPA and Eco-Energy Distribution-Philadelphia, LLC.

Parties: Eco-Energy Distribution-Philadelphia, LLC and The Philadelphia Regional Port Authority (PRPA).

Filing Party: Paul D. Coleman, Esq.; Hoppel, Mayer & Coleman; Attorneys and Counsellors at Law; 1050 Connecticut Avenue NW., 10th Floor; Washington, DC 20036.

Synopsis: The amendment authorizes Eco-Energy to change the type of security deposit to a cash security to be held by PRPA, to change the allowable depth of dredging, and to change the location of a pipeline.

Agreement No.: 201227-004.

Title: Pacific Ports Operational Improvements Agreement.

Parties: Ocean Carrier Equipment Management Association, Inc.; West Coast MTO Agreement; Maersk LineA/S; APL Co. Pte Ltd.; American President Lines, Ltd.; CMA CGM S.A.; Cosco Container Lines Company Limited; Evergreen Line Joint Service Agreement FMC Agreement No. 011982; Hamburg-Sud; Alianca Navegacao e Logistica Ltda.; Hanjin Shipping Co., Ltd.; Hapag-Lloyd AG; Hapag-Lloyd USA; Companhia Libra de Navegacao; Compania Libra de Navegacion Uruguay S.A.; Mitsui O.S.K. Lines, Ltd.; Nippon Yusen Kaisha Line; Kawasaki Kisen Kaisha, Ltd.; Hyundai Merchant Marine Co., Ltd.; Zim Integrated Shipping Services; Matson Navigation Company, Inc.; APM Terminals Pacific, Ltd.; California United Terminals, Inc.; Eagle Marine Services, Ltd.; International Transportation Service, Inc.; Long Beach Container Terminal, Inc.; Seaside Transportation Service LLC; Total Terminals LLC; West Basin Container Terminal LLC; Pacific Maritime Services, LLC; SSA Terminal (Long Beach), LLC; Trapac Inc.; Yusen Terminals, Inc.; SSA Terminals, LLC; SSA Terminal (Oakland), LLC; SSA Terminals (Seattle), LLC; Sea Star Stevedoring Company, Inc.; Washington United Terminals, Inc.

Filing Party: David Smith, Esq.; Cozen O'Connor; 1627 I Street NW., Suite 1100; Washington, DC 20006.

Synopsis: The Amendment deletes Hanjin Shipping Co., Ltd. as a party to the Agreement effective September 19, 2015.

By Order of the Federal Maritime Commission.
Dated: July 24, 2015.
Karen V. Gregory,
Secretary.

[FR Doc. 2015-18604 Filed 7-28-15; 8:45 am]

BILLING CODE 6731-AA-P